NATIONAL AERONAUTICS AND SPACE ADMINISTRATION

[Notice (12-067)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 6, 2012.

FOR FURTHER INFORMATION CONTACT: Robin W. Edwards, Patent Counsel, Langley Research Center, Mail Stop 30, Hampton, VA 23681-2199; telephone (757) 864-3230; fax (757) 864-9190.

NASA Case No.: LAR-17485-2: Metal/Fiber Laminate and Fabrication Using a Porous Metal/Fiber Preform;

NASA Case No.: LAR-17791-1: Method for Producing Heavy Electrons:

NASA Case No.: LAR-17789-1: Electroactive Scaffold;

NASA Case No.: LAR-17799-1: Methods of Real Time Image Enhancement of Flash LIDAR Data and Navigating a Vehicle Using Flash LIDAR Data;

NASA Case No.: LAR-18023-1: Landing Gear Door Liners for Airframe Noise Reduction;

NASA Case No.: LAR-17555-1: Lock-In Imaging System for Detecting Disturbances in Fluid;

NASA Case No.: LAR-17318-1: Preparation of Metal Nanowire Decorated Carbon Allotropes;

NASA Case No.: LAR-17869-1: Team Electronic Gameplay Combining Different Means of Control;

NASA Case No.: LAR-18016-1: Wireless Temperature Sensor Having No Electrical Connections and Sensing Method for Use Therewith;

NASA Case No.: LAR-17681-1: Method and System for Repairing Cracks in Structures;

NASA Case No.: LAR-17919-1: Methods of Making Z-Shielding;

NASA Case No.: LAR-17735-1: Assessment and Calibration of a Crimp Tool Equipped with Ultrasonic Analysis Features;

NASA Case No.: LAR-17967-1: Multistage Force Amplification of Piezoelectric Stacks;

NASA Case No.: LAR-17455-2: A Nanotube Film Electrode and an Electroactive Device Fabricated with the Nanotube Film Electrode and Methods for Making Same;

NASA Case No.: LAR-17952-1: Multi-Point Interferometric Phase Change Detection Method;

NASA Case No.: LAR-17689-1: Negative Dielectric Constant Material Based on Ion Conducting Materials;

NASA Case No.: LAR-17857-1: In-Flight Pitot-Static Calibration;

NASA Case No.: LAR-17906-1: Abnormal Grain Growth Suppression in Aluminum Alloys;

NASA Case No.: LAR-17833-1: Active Aircraft Pylon Noise Control System;

NASA Case No.: LAR-17908-1: Photogrammetry System and Method for Determining Relative Motion Between Two Bodies;

NASA Case No.: LAR-17877-1: Autonomous Slat-Cove-Filler Device for Reduction of Aeroacoustic Noise Associated with Aircraft Systems;

NASA Case No.: LAR-17832-1: Aircraft Engine Exhaust Nozzle System for Jet Noise Reduction;

NASA Case No.: LAR-17985-1: An Acoustic Beam Forming Array Using Feedback-Controlled Microphones for Tuning and Self-Matching of Frequency Response;

NASA Case No.: LAR-17994-1: Method for Manufacturing a Thin Film Structural System;

NASA Case No.: LAR-17836-1: Sub-Surface Windscreen for Outdoor Measurement of Intrasound;

NASA Case No.: LAR-17894-1: A Method for Enhancing a Three Dimensional Image from a Pluralitry of Frames of Flash LIDAR Data;

NASA Case No.: LAR-17786-1: Smart Optical Material Characterization System and Method;

NASA Case No.: LAR-17958-1: Wireless Open-Circuit In-Plane Strain and Displacement Sensor Requiring No Electrical Connections;

NASA Case No.: LAR-18026-1: Anisotropic Copoly(imide Oxetane) Coatings and Articles of Manufacture, Copoly(imide Oxetane)s Containing Pendant Fluorocarbon Moieties, Oligomers and Processes Therefor;

NASA Case No.: LAR-17638-1: Antenna with Dielectric Having Geometric Patterns;

NASA Case No.: LAR-17987-1: Fault-Tolerant Self-Stabilizing Distributed Clock Synchronization Protocol for Arbitrary Digraphs;

NASA Case No.: LAR-17895-1: Physiologically Modulating Videogames or Simulations Which Use Motion-Sensing Input Devices;

NASA Case No.: LAR-17923-1: A Method of Creating Micro-Scale Silver Telluride Grains Covered with Bismuth Nanoparticles;

NASA Case No.: LAR-17888-1: Time Shifted PN Codes for CW LIDAR, RADAR, and SONAR;

NASA Case No.: LAR-17813-1: Systems, Apparatuses, and Methods for Using Durable Adhesively Bonded Joints for Sandwich Structures;

NASA Case No.: LAR-17769-1: Modification of Surface Energy via Direct Laser Ablative Surface Patterning;

NASA Case No.: LAR-17694-1: Fourier Transform Spectrometer System;

NASA Case No.: LAR-17831-1: Blended Cutout Flap for the Reduction of Jet-Flap Interaction Noise;

NASA Case No.: LAR-17386-1: Fine-Grained Targets for Laser Synthesis of Carbon Nanotubes;

NASA Case No.: LAR-17149-2: Mechanically Strong, Thermally Stable, and Electrically Conductive Nanocomposite Structure and Method of Fabricating Same;

NASA Case No.: LAR-17747-1: Wireless Temperature Sensing Having No Electrical Connections and Sensing Method for Use Therewith;

NASA Case No.: LAR-17993-1: Locomotion of Amorphous Surface Robots;

NASA Case No.: LAR-17886-1: Method and Apparatus to Detect Wire Pathologies Near Crimped Connector;

NASA Case No.: LAR-18006-1: Process and Apparatus for Nondestructive Evaluation of the Quality of a Crimped Wire Connector;

NASA Case No.: LAR-17332-2: Jet Engine Exhaust Nozzle Flow Effector;

NASA Case No.: LAR-17743-1: Stackable Form-Factor Peripheral Component Interconnect Device and Assembly;

NASA Case No.: LAR-17088-1: Nanotubular Toughening Inclusions;

NASA Case No.: LAR-16565-1: Electric Field Quantitative Measurement System and Method;

NASA Case No.: LAR-17959-1: Method of Making a Composite Panel Having Subsonic Transverse Wave Speed Characteristics;

NASA Case No.: LAR-18034-1: Compact Active Vibration Control System for a Flexible Panel;

NASA Case No.: LAR-17984-1: Elastically Deformable Side-Edge Link for Trailing-Edge Flap Aeroacoustic Noise Reduction;

NASA Case No.: LAR-18024-1: External Acoustic Liners for Multi-Functional Aircraft Noise Reduction;

NASA Case No.: LAR-17705-1: Compact Vibration Damper;

NASA Case No.: LAR-18021-1: Flap Side Edge Liners for Airframe Noise Reduction.

Sumara M. Thompson-King,
Acting Deputy General Counsel.

[FR Doc. 2012-21911 Filed 9-5-12; 8:45 am]

BILLING CODE P